NUCLEAR REGULATORY COMMISSION

Sunshine Act Meeting

Agency Holding the Meeting: Nuclear Regulatory Commission.

Dates: Weeks of October 2, 9, 16, 23, 30, and November 6, 2000.

Place: Commissioners' Conference Room, 11555 Rockville Pike, Rockville, Maryland.

Status: Public and Closed.

Matters to be Considered:

Week of October 2

Friday, October 6

9:25 a.m.

Affirmation Session (Public Meeting) (If needed)

9:30 a.m.

Meeting with ACRS (Public Meeting) (Contact: John Larkins, 301-415-7360)

This meeting will be webcast live at the Web address—

www.nrc.gov/live.html

Week of October 9—Tentative

There are no meetings scheduled for the Week of October 9.

Week of October 16—Tentative

Tuesday, October 17

9:25 a.m.

Affirmation Session (Public Meeting) (If needed)

Week of October 23—Tentative

Monday, October 23

1:55 p.m.

Affirmation Session (Public Meeting) (If needed)

Week of October 30—Tentative

There are no meetings scheduled for the week of October 30.

Week of November 6—Tentative

There are no meetings scheduled for the Week of November 6.

The schedule for Commission meetings is subject to change on short notice. To verify the status of meetings call (Recording)—)(301) 415-1292. Contact Person for More Information: Bill Hill (301) 415-1661.

The NRC Commission Meeting Schedule can be found on the Internet at:

http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: September 29, 2000.
William M. Hill, Jr.,
SECY Tracking Officer, Office of the Secretary.

[FR Doc. 00-25564 Filed 10-2-00; 11:36 am]

BILLING CODE 7590-01-M